DEPARTMENT OF TRANSPORTATION

Federal Aviation Administration

RTCA Special Committee 196 Night Vision Goggle (NVG) Appliances and Equipment

Pursuant to section 10(a) (2) of the Federal Advisory Committee Act (P.L. 92-463, 5 U.S.C., Appendix 2), notice is hereby given for Special Committee (SC)-196 meeting to be held March 28-29, 2000, starting at 9:00 a.m. each day. The meeting will be held at RTCA Inc., 1140 Connecticut Avenue, NW., Suite 1020, Washington, DC 20036.

The agenda will include: May 31: (1) Welcome and Introductory Remarks; (2) Agenda Overview; (3) Review/Approval of Previous Minutes; (4) Action Item Status Review; (5) Overview SC-196 Working Group (WG) Activities: (a) WG-1, Operational Concept/Requirements; (b) WG-2, Night Vision Goggles Minimum Operational Performance Standards; (c) WG-3, Night Vision Imaging System Lighting; (d) WG-4, Maintenance/Serviceability; (e) WG-5, Training Guidelines/Considerations; (6) WG Breakout Sessions. June 1: (7) Night vision Imaging Systems Terminology Review; (8) Technical Standard Order Process; (9) RTCA Ballot Process; (10) Risk and System Safety Assessment Discussion; (11) Working Group Breakout Sessions. June 2: (12) Status of SC-196 WG Activities; (a) WG-1, Operational Concept/Requirements; (b) WG-2, Night Vision Goggles Minimum Operational Performance Standards; (c) WG-3, Night Vision Imaging System Lighting; (d) WG-4, Maintenance/Serviceability; (e) WG-5, Training Guidelines/Considerations; (13) Other Business; (14) Establish Agenda for Next Meeting; (15) Date and Location of Next Meeting; (16) Workgroup Breakout Sessions; (17) Working Group Chairpersons Meeting; (18) Closing.

Attendance is open to the interested public but limited to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on May 1, 2000.
Jane P. Caldwell,
Designated Official.

[FR Doc. 00-11327 Filed 5-4-00; 8:45 am]

BILLING CODE 4910-13-M